DEPARTMENT OF THE INTERIOR

National Park Service

[NPS-WASO-NAGPRA-NPS0040473; PPWOCRADN0-PCU00RP14.R50000]

Notice of Intended Repatriation: Western Washington University, Department of Anthropology, Bellingham, WA

AGENCY: National Park Service, Interior.

ACTION: Notice.

SUMMARY: In accordance with the Native American Graves Protection and Repatriation Act (NAGPRA), the Western Washington University, Department of Anthropology (WWU) intends to repatriate certain cultural items that meet the definition of sacred objects and objects of cultural patrimony and that have a cultural affiliation with the Indian Tribes or Native Hawaiian organizations in this notice.

DATES: Repatriation of the cultural items in this notice may occur on or after August 11, 2025.

ADDRESSES: Send additional, written requests for repatriation of the cultural items in this notice to Dr. Judith Pine, Western Washington University, Department of Anthropology, Arntzen Hall 340, 516 High Street, Bellingham, WA 98225, email pinej@wwu.edu.

SUPPLEMENTARY INFORMATION: This notice is published as part of the National Park Service's administrative responsibilities under NAGPRA. The determinations in this notice are the sole responsibility of the WWU, and additional information on the determinations in this notice, including the results of consultation, can be found in the summary or related records. The National Park Service is not responsible for the determinations in this notice.

Abstract of Information Available

A total of 73 cultural items have been requested for repatriation. The 73 sacred objects/objects of cultural patrimony are stone, bone and antler tools, beads, labrets, and red ochre. Several different archaeological projects conducted between 1968 and 2007 resulted in the collection of the items listed in this notice. A brief summary of each project is listed below.

1. In 1971, Harry Smith collected artifacts at his property (45-WH-13) on the Lummi Peninsula after the site had been destroyed during cultivation and use as a borrow pit for nursery soil. He offered the artifacts to Dr. Grabert of WWU for analysis. A survey of the site was also conducted during a WWU field school in 1971.

2. In 1968, Dr. Grabert of WWU recorded 45-WH-16 as an open camp site exposed by plowing on the Intalco Property at Cherry Point, Whatcom County, WA. He collected two bags of lithics at that time.

3. In 1969 excavations by WWU students were conducted at 45-WH-24. Materials were collected by surface collection and excavation of five test cuts. In April of 1975, WWU entered into a contract with Arcomm Construction Company, Inc. of Seattle connected with the development of the Birch Bay Sewage Treatment Facility. Reconnaissance of the area and examination of the sewer treatment plant site was conducted March 24-31, 1975. The majority of the work consisted of monitoring and salvage archaeology during the construction.

4. Six boxes of artifacts and samples were collected from 45-WH-47, near Padden Creek in Fairhaven, as part of a WWU field school led by Dr. Grabert in 1973.

5. WWU students excavated at 45-WH-48 in the Birch Point Uplands as part of an archaeological methods and theory class in spring of 1974 under the direction of Dr. Grabert.

6. A surface collection by Jenna Gaston of WWU was conducted at Point Whitehorn (45-WH-52) as part of a reconnaissance trip for Dr. Grabert's field school in 1974.

7. WWU Field Schools led by Drs. Campbell and Koetje in the summers of 2005 and 2007 at Woodstock Farm (45-WH-55), along Chukanut Bay, resulted in two large collections.

8. The Snelson-Anvil Property at Cherry Point (45-WH-83) was examined by Grabert and Hall of WWU in 1978 under contract with Parametrix Incorporation of Seattle, WA. The project included the first phase of surface collection and shovel testing and the second phase of excavating artifact clusters.

9. Items were collected during a cultural resource management project conducted by Equinox Research and Consulting International (ERCI) in 2005 at 1793 Edwards Drive in Pt. Roberts.

10. The City of Bellingham contracted with Wessen & Wessen Associates in 2007 to conduct test excavations at 45-WH-735 before beginning construction on a new trail near Whatcom Creek which resulted in collection and transfer of several items to WWU.

11. Site survey and surface collection by Dr. Grabert of WWU was conducted at two properties (Higgenbottom and Washburn) near Birch Bay in 1967 and 1970, respectively.

No hazardous chemicals are known to have been used to treat the items while in the custody of WWU.

Determinations

The WWU has determined that:

• The 73 sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a connection between the cultural items described in this notice and the Lummi Tribe of the Lummi Reservation and the Nooksack Indian Tribe.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 11, 2025. If competing requests for repatriation are received, the WWU must determine the most appropriate requestor prior to repatriation. Requests for joint repatriation of the cultural items are considered a single request and not competing requests. The WWU is responsible for sending a copy of this notice to the Indian Tribes and Native Hawaiian organizations identified in this notice and to any other consulting parties.

Authority: Native American Graves Protection and Repatriation Act, 25 U.S.C. 3004 and the implementing regulations, 43 CFR 10.9.

Dated: June 25, 2025.
Melanie O'Brien,
Manager, National NAGPRA Program.

[FR Doc. 2025-12827 Filed 7-9-25; 8:45 am]

BILLING CODE 4312-52-P